DEPARTMENT OF HEALTH AND HUMAN SERVICES

Centers for Disease Control and Prevention

[60Day-15-15GJ]

Proposed Data Collections Submitted for Public Comment and Recommendations

The Centers for Disease Control and Prevention (CDC), as part of its continuing effort to reduce public burden and maximize the utility of government information, invites the general public and other Federal agencies to take this opportunity to comment on proposed and/or continuing information collections, as required by the Paperwork Reduction Act of 1995. To request more information on the below proposed project or to obtain a copy of the information collection plan and instruments, call 404-639-7570 or send comments to Leroy A. Richardson, 1600 Clifton Road, MS-D74, Atlanta, GA 30333 or send an email to omb@cdc.gov.

Comments submitted in response to this notice will be summarized and/or included in the request for Office of Management and Budget (OMB) approval. Comments are invited on: (a) Whether the proposed collection of information is necessary for the proper performance of the functions of the agency, including whether the information shall have practical utility; (b) the accuracy of the agency's estimate of the burden of the proposed collection of information; (c) ways to enhance the quality, utility, and clarity of the information to be collected;(d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information. Written comments should be received within 60 days of this notice.

Proposed Project

Title of Project—Investigating the Implementation and Evaluation of Top-ranked HSMS Elements — New—National Institute for Occupational Safety and Health (NIOSH), Centers for Disease Control and Prevention (CDC).

Background and Brief Description

NIOSH, under Pub. L. 91-596, Sections 20 and 22 (Section 20-22, Occupational Safety and Health Act of 1977) has the responsibility to conduct research relating to innovative methods, techniques, and approaches dealing with occupational safety and health problems.

This project seeks to understand the best practices for developing, implementing, and maintaining a robust risk management system (i.e. health and safety management system [HSMS]). Researchers suggest that an HSMS requires considerable knowledge, skills, abilities, and competencies from all individuals within an organization as well as focused and purposeful coordination between them.

Previous research considered the sheer number of possible choices to be a barrier to HSMS adoption. Therefore, NIOSH began to understand what the most fundamentally important elements were that support the development, implementation and maintenance of a comprehensive, effective risk-based HSMS. NIOSH surveyed practicing health and safety executives, managers, and professionals from a variety of mining commodities to determine if they agreed on which HSMS elements and practices were most important. The results of this study suggested that the following areas require consistent focus and attention: Leadership Development; Accountability; Knowledge, Skills, and Abilities Development; System Coordination; Culture Enhancement; Behavior Optimization; and Risk Management. To date, little empirical research has been conducted to address practical research questions related to each.

Therefore, the current research task is designed to investigate research questions related to the practical purpose, implementation, and evaluation of each element: (1) how is each of these HSMS elements best executed within mining organizations?; (2) how do you know an element has been successfully implemented within the organization?; and (3) what are the barriers to implementing these HSMS elements within mining organizations?

This study employs a strictly qualitative approach to answer the research questions. A qualitative approach allows researchers to probe participants and learn about their specific experiences through in-depth examples. A protocol that will be used during an interview and/or focus group was developed. The subject matter in the protocol is focused on implementing and evaluating specific elements within managers' HSMS and possible barriers to implementation and evaluation.

NIOSH is seeking a three year approval for this project which will target mine sites for participation by reaching out to organizational leaders/managers of health and safety at respective mines for their participation. Data collection, in the form of interviews and/or focus groups will occur to answer the questions for this study.

Respondents targeted for this study include corporate or site mine managers (also referred to in some cases as leaders, executives, coordinators or supervisors). These individuals are responsible for the day-to-day administration and/or implementation of the HSMS. In some cases, more than one individual is responsible for certain aspects of the HSMS. Therefore, depending on how these responsibilities are designated at mine sites and how many of these leaders are interested at each mine site, researchers will either facilitate a single interview or a focus group with mine site leadership.

Participants will be recruited through members of mine management using a mine recruitment script. It is estimated that a sample of up to 100 individuals (approximately 34 per year) will agree to participate among a variety of mine sites. Participants will be between the ages of 18 and 75, currently employed, and living in the United States. Participation will require no more than 60 minutes of workers' time (approximately five minutes for the informed consent process and 55 minutes for the interview or focus group—there is no cost to respondents other than their time).

Upon collection of the data, researchers will analyze and determine the effect that each element has on a mine's ability to develop, implement or maintain an HSMS. With that said, lines of theoretical inquiry will be used to inform the thinking behind the practical guidance ultimately provided to mining organizations. Essentially, best practices can be provided that are applicable across an HSMS, not respective to just one aspect or element. Therefore, the findings will be used to make an HSMS more feasible and applicable for the mining industry.

Estimated Annualized Burden Hours
Type of respondent | Form name | Number of respondents | Number of responses per respondent | Average burden per response (in hours) | Total burden hours
Safety/health Mine Representative | Mine Manager Recruitment Script | 8 | 1 | 5/60 | 1
Safety/health Mine Manager | Informed Consent Form | 34 | 1 | 5/60 | 3
Safety/health Mine Manager | HSMS Interview/Focus Group Protocol | 34 | 1 | 55/60 | 31
Total |  |  |  |  | 35

Leroy A. Richardson,
Chief, Information Collection Review Office, Office of Scientific Integrity, Office of the Associate Director for Science, Office of the Director, Centers for Disease Control and Prevention.

[FR Doc. 2014-29252 Filed 12-12-14; 8:45 am]

BILLING CODE 4163-18-P